DEPARTMENT OF AGRICULTURE

Rural Housing Service

7 CFR Part 1951

[Docket No. RHS-20-CF-0011]

Notification of Direct Loan Payment Deferrals for the Community Facilities Direct Loan Program

Correction

In rule document 2020-08429 beginning on page 22009 in the issue of Tuesday, April 21, 2020, make the following correction:

On page 22009, in the DATES section, “May 12, 2020” should read “April 21, 2020”.

[FR Doc. C1-2020-08429 Filed 5-20-20; 8:45 am]

BILLING CODE 1301-00-D